NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (#66)

Date/Time: April 1, 2010, 9 a.m.-6 p.m.; April 2, 2010, 9 a.m-3 p.m.

Place: National Science Foundation, RM 375, 4201 Wilson Boulevard, Arlington, VA 22230.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda:

Update on current status of Directorate;

Report of NSF Advisory Working Groups;

Meeting of MPSAC with Divisions within MPS Directorate;

Discussion of MPS Long-term Planning Activities.

Summary Minutes: May be obtained from the contact person listed above.

Dated: March 2, 2010.
Susanne E. Bolton,
Committee Management Officer.

[FR Doc. 2010-4678 Filed 3-4-10; 8:45 am]

BILLING CODE 7555-01-P